DEPARTMENT OF COMMERCE

National Oceanic and Atmospheric Administration

RIN 0648-XA106

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Wednesday, January 19, 2011 at 9 a.m.

ADDRESSES: The meeting will be held at the Clarion Hotel, 1230 Congress Street, Portland, ME 04102; telephone: (207) 774-5611; fax: (207) 871-0510.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Multispecies (Groundfish) Oversight Committee will begin development of Framework 47 to the Northeast Multispecies Fishery Management Plan (FMP). Framework 47 will consider changes to the haddock bycatch cap in the herring fishery. The Committee will work on the development of an amendment to the FMP that will address issues related to state-sponsored permit banks. The Committee will also discuss the initiation of an amendment to the FMP to consider allocative effects, excessive control of fishing privileges, and fleet diversity objectives for the multispecies fishery. Other business may also be discussed.

The Committee's recommendations will be delivered to the full Council at its meeting in Portsmouth, NH on January 25-27, 2011.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: December 17, 2010.
Tracey L. Thompson,
Acting Director, Office of Sustainable Fisheries, National Marine Fisheries Service.

[FR Doc. 2010-32215 Filed 12-22-10; 8:45 am]

BILLING CODE 3510-22-P